DEPARTMENT OF JUSTICE

Notice of Lodging of Consent Decree Pursuant to the Comprehensive Environmental Response, Compensation, and Liability Act

Notice is hereby given that on September 7, 2012, a proposed consent decree in United States v. Richard Barefoot and Vera Barefoot, Civil Action No. 3:12-cv-00189, was lodged with the United States District Court for the Western District of Pennsylvania.

The proposed consent decree resolves claims that the United States filed under Section 107 of CERCLA, 42 U.S.C. 9607, for reimbursement of costs incurred and to be incurred in connection with response actions at the Barefoot Disposal Site (“Site”) in Blair County, Pennsylvania. Under the proposed consent decree, the Settling Defendants, Richard and Vera Barefoot, will reimburse the United States $15,000 for past response costs, based on an analysis of Settling Defendants' ability to pay, and limited future response costs.

The Department of Justice will receive, for a period of thirty (30) days from the date of this publication comments relating to the proposed consent decree. Comments should be addressed to the Assistant Attorney General, Environment and Natural Resources Division, and either emailed to pubcomment-ees.enrd@usdoj.gov or mailed to P.O. Box 7611, U.S. Department of Justice, Washington, DC, 20044-7611, and should refer to United States v. Richard Barefoot and Vera Barefoot, DOJ No. 90-11-3-09307/2.

During the public comment period, the proposed consent decree may also be examined on the following Department of Justice Web site, http://www.usdoj.gov/endr/Consent_Decrees.html. A copy of the proposed consent decree may be obtained by mail from the Consent Decree Library, P.O. Box 7611, U.S. Department of Justice, Washington, DC 20044-7611 or by faxing or emailing a request to “Consent Decree Copy” (EESCDCopy.ENRD@usdoj.gov), fax No. (202) 514-0097, phone confirmation number (202) 514-5271. In requesting a copy from the Consent Decree Library, please enclose a check in the amount of $38.25 (25 cents per page reproduction cost) payable to the U.S. Treasury or, if by email or fax, forward a check in that amount to the Consent Decree Library at the address given above.

Robert Brook,
Assistant Section Chief, Environmental Enforcement Section, Environment & Natural Resources Division.

[FR Doc. 2012-22691 Filed 9-13-12; 8:45 am]

BILLING CODE 4410-15-P